DEPARTMENT OF TRANSPORTATION

Pipeline and Hazardous Materials Safety Administration

[Docket No. PHMSA-2006-24044; Notice 1]

Pipeline Safety: Request for Waiver; Dominion Transmission, Inc.

AGENCY: Pipeline and Hazardous Materials Safety Administration (PHMSA); DOT.

ACTION: Notice of intent to consider waiver request.

SUMMARY: Dominion Transmission, Inc. (DTI) requested a waiver of compliance from the pipeline safety regulation that requires each liquefied natural gas (LNG) facility constructed after March 31, 2000 to comply with the American National Standards Institute and National Fire Protection Association (ANSI/NFPA) standard for low-pressure welded storage containers.

DATES: Persons interested in submitting comments on the waiver request described in this Notice must do so by April 17, 2006.

ADDRESSES: Comments may be submitted in the following ways:

• DOT Web site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web site: http://www.Regulations.gov. This site allows the public to enter comments on any Federal Register notice issued by any agency.

Instructions: You should identify the docket number, PHMSA-2006-24044, at the beginning of your comments. If you submit your comments by mail, you should submit two copies. If you wish to receive confirmation that PHMSA received your comments, you should include a self-addressed stamped postcard. Internet users may submit comments at http://www.regulations.gov, and may access all comments received by DOT at http://dms.dot.gov by performing a simple search for the docket number. Note: All comments will be posted without changes or edits to http://dms.dot.gov including any personal information provided.

Privacy Act Statement: Anyone may search the electronic form of all comments received for any of our dockets. You may review DOT's complete Privacy Act Statement in the Federal Register published on April 11, 2000 (65 FR 19477) or you may visit http://dms.dot.gov.

FOR FURTHER INFORMATION CONTACT: James Reynolds by telephone at 202-366-2786; by fax at 202-366-4566; by mail at DOT, Pipeline and Hazardous Materials Safety Administration (PHMSA), Office of Pipeline Safety, 400 7th Street, SW., Washington, DC 20590; or by e-mail at james.reynolds@dot.gov.

SUPPLEMENTARY INFORMATION:

Background

Dominion Transmission, Inc. (DTI), requests a waiver of compliance from the regulatory requirements at 49 CFR 193.2301. This regulation requires each LNG facility constructed after March 31, 2000, to comply with 49 CFR 193 and ANSI/NFPA standard 59A (NFPA 59A).

NFPA 59A requires that welded containers designed for not more than 15 pounds per square inch gauge pressure (psig) comply with the Eighth Edition, 1990, of American Petroleum Institute standard 620 (API 620), Design and Construction of Large, Welded, Low-Pressure Storage Tanks (Appendix Q). The Eighth Edition of API 620 requires inspection according to Appendix Q which calls for the full radiographic examination of all vertical and horizontal butt welds associated with the container.

DTI is proposing to use the current Tenth Edition, Addendum 1, of API 620. The Tenth Edition, Addendum 1, of API 620, allows ultrasonic examination—in lieu of radiography—as an acceptable alternative non-destructive testing method. DTI proposes to use ultrasonic examination on its project. The ultrasonic examination consists of full semi-automated and manual examination using shear wave probes, and volumetric examination using a combination of creep wave probes and focused angled longitudinal wave probes.

NFPA 59A Technical Committee recently approved and recommended the acceptance of the Tenth Edition, 2002 of API 620. PHMSA has not yet adopted the Tenth Edition, 2002 of API 620, and has not yet incorporated it by reference in Appendix A to Part 193; therefore, a waiver is required.

DTI asserts that ultrasonic examination is more sensitive than radiographic examination to detect the type of flaws most susceptible in the design and construction of large welded low pressure storage tanks. DTI further asserts that any potentially detrimental weld defect in the container walls will be identifiable using the ultrasonic examination method.

DTI concludes that the alternative method of inspection allowed by the current Tenth Edition, Addendum 1, of API 620, will not reduce the integrity of the installation, and will in fact enhance the quality of the inspection by using modern inspection technology while improving personnel safety and information sharing.

For the reasons stated, DTI is requesting a waiver from 49 CFR 193.2301, and is asking that it be allowed to use the ultrasonic examination method according to the Tenth Edition, Addendum 1, of API 620, in lieu of the radiographic examination method as specified by the Eighth Edition of API 620.

System Description

DTI's Cove Point LNG, liquid propane (LP) terminal is located on the Chesapeake Bay in Lusby, Maryland. DTI is engaged in an expansion project that will increase its plant daily output capacity from 1 billion cubic feet (Bcf) per day to 1.8 Bcf per day. DTI has sought approval from the Federal Energy Regulatory Commission for this project; and if granted, DTI's storage capacity at the terminal is expected to increase to approximately 14.5 Bcf.

DTI's Cove Point Expansion Project consists of two tanks each with a volume of approximately one million barrels. The outer wall of each container is constructed of carbon steel and the inner wall is constructed of 9% nickel steel.

PHMSA will consider DTI's waiver request and whether DTI's proposal will yield an equivalent or greater degree of safety than that currently provided by the regulations. This Notice is PHMSA's only request for public comment before making a decision. After considering any comments received, PHMSA will either grant DTI's waiver request as proposed or with modifications and conditions or deny DTI's request. If the waiver is granted and PHMSA subsequently determines that the effect of the waiver is inconsistent with pipeline safety, PHMSA may revoke the waiver at its sole discretion.

Authority: 49 U.S.C. 60118(c) and 49 CFR 1.53.

Issued in Washington, DC, on March 13, 2006.
Joy Kadnar,
Director of Engineering and Engineering Support.

[FR Doc. E6-3853 Filed 3-16-06; 8:45 am]

BILLING CODE 4910-60-P